DEPARTMENT OF ENERGY

Federal Energy Regulatory Commission

[Project No. 13213-003—Kentucky Heidelberg Hydroelectric Project]

Lock 14 Hydro Partners, LLC; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Kentucky State Historic Preservation Officer (SHPO) and the Advisory Council on Historic Preservation (Advisory Council) pursuant to the Advisory Council's regulations, 36 CFR part 800, implementing section 106 of the National Historic Preservation Act, as amended, (16 U.S.C. 470f), to prepare a Programmatic Agreement for managing properties included in, or eligible for inclusion in, the National Register of Historic Places at the proposed Heidelberg Hydroelectric Project.

The Programmatic Agreement, when executed by the Commission, the Kentucky SHPO, and the Advisory Council, would satisfy the Commission's section 106 responsibilities for all individual undertakings carried out in accordance with the license until the license expires or is terminated (36 CFR section 800.13 (e)). The Commission's responsibilities pursuant to section 106 for the project would be fulfilled through the Programmatic Agreement, which the Commission staff proposes to draft in consultation with certain parties listed below.

Lock 14 Hydro Partners, LLC, as the applicant for Project No. 13213-003, is invited to participate in consultations to develop the Programmatic Agreement and to sign as a concurring party to the Programmatic Agreement. For purposes of commenting on the Programmatic Agreement, we propose to restrict the service list for Project No. 13213-003 as follows:

John Fowler, Executive Director, Advisory Council on Historic Preservation, The Old Post Office Building, Suite 803, 1100 Pennsylvania Avenue NW., Washington, DC 20004.

Jill Howe, Kentucky Heritage Council, 300 Washington St., Frankfurt, KY 40601.

Philip Mink, Kentucky Heritage Council, 300 Washington St., Frankfurt, KY 40601.

Jerry Graves, Kentucky River Authority, 627 Wilkinson Blvd., Frankfort, KY 40601.

David Hamilton, Kentucky River Authority, 627 Wilkinson Blvd., Frankfort, KY 40601.

Lisa LaRue-Baker, United Keetoowah Band of Cherokee Indians, P.O. Box 746, Tahlequah, OK 74465.

Michael Striker, Gray & Pape, Inc., 1318 Main St., Cincinnati, OH 45202.

David Brown Kinloch, Lock 14 Hydro Partners, 414 South Wenzel St., Louisville, KY 40204.

Any person on the official service list for the above-captioned proceedings may request inclusion on the restricted service list, or may request that a restricted service list not be established, by filing a motion to that effect within 15 days of this notice date. An original plus five copies of any such motion must be filed with the Secretary of the Commission (888 First Street NE., Washington, DC 20426) and must be served on each person whose name appears on the official service list. If no such motions are filed, the restricted service list will be effective at the end of the 15 day period. Otherwise, a further notice will be issued ruling on the motion.

Dated: November 21, 2013.
Kimberly D. Bose,
Secretary.

[FR Doc. 2013-28539 Filed 11-27-13; 8:45 am]

BILLING CODE 6717-01-P